GENERAL SERVICES ADMINISTRATION

[Notice-MA-2016-08; Docket No. 2016-0002; Sequence No. 31]

Federal Management Regulations; Transportation Prepayment Audit Requirements

AGENCY: Office of Government-wide Policy, General Services Administration (GSA).

ACTION: Notice of a bulletin.

SUMMARY: GSA has issued a guidance for agencies and wholly-owned Government corporations, which provides a deadline to comply with recent regulatory changes that prohibit agencies from using prepayment auditors that have any affiliation with, or financial interest, in the transportation company (providing the transportation services) for which a prepayment audit is being conducted.

DATES: Effective: January 3, 2017.

FOR FURTHER INFORMATION CONTACT: Mr. Ron Siegel, Program Analyst, Office of Government-wide Policy (MAF), Office of Asset and Transportation Management, General Services Administration at 202-357-9540, or via email at ron.siegel@gsa.gov. Please cite FMR Bulletin D-03.

SUPPLEMENTARY INFORMATION: FMR Bulletin D-03 provides guidance to all agencies (including the Department of Defense) and wholly-owned Government corporations as defined in 31 United States Code (U.S.C.) 101, et seq. and 31 U.S.C. 9101(3). This bulletin provides agencies notice of a governmentwide policy revision for mandatory transportation prepayment audit plans, and provides a deadline for compliance with regulatory changes provided in FMR 102-118, Transportation Payment and Audit. FMR Bulletin D-03 and all other FMR bulletins are located at http://www.gsa.gov/fmrbulletins.

Kevin Kampschroer,
Associate Administrator (Acting), Office of Government-wide Policy, General Services Administration.

[FR Doc. 2016-31786 Filed 12-30-16; 8:45 am]

BILLING CODE 6820-14-P